RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Student Beneficiary Monitoring.

(2) Form(s) submitted: G-315, G-315A, G-315A.1.

(3) OMB Number: 3220-0123.

(4) Expiration date of current OMB clearance: 01/31/2007.

(5) Type of request: Revision of a currently approved collection.

(6) Respondents: Individuals or households, business or other for-profit, non-profit institutions.

(7) Estimated annual number of respondents: 900.

(8) Total annual responses: 900.

(9) Total annual reporting hours: 217.

(10) Collection description: Under the Railroad Retirement Act (RRA), a student benefit is not payable if the student ceases full-time school attendance, marries, works in the railroad industry, has excessive earnings or attains the upper age limit under the RRA. The report obtains information to be used in determining if benefits should cease or be reduced.

Additional Information or Comments: Copies of the forms and supporting documents can be obtained from Charles Mierzwa, the agency clearance officer at (312) 751-3363 or Charles.Mierzwa@RRB.GOV.

Comments regarding the information collection should be addressed to Ronald J. Hodapp, Railroad Retirement Board, 844 North Rush Street, Chicago, Illinois, 60611-2092 or Ronald.Hodapp@RRB.GOV and to the OMB Desk Officer for the RRB, at the Office of Management and Budget, Room 10230, New Executive Office Building, Washington, DC 20503.

Charles Mierzwa,
Clearance Officer.

[FR Doc. 05-16124 Filed 8-12-05; 8:45 am]

BILLING CODE 7905-01-P